DEPARTMENT OF HEALTH AND HUMAN SERVICES

Health Resources and Services Administration

Notice of a Maternal and Child Health Bureau (MCHB)-Initiated Supplemental Award to the National Academy for State Health Policy (NASHP) for the Supporting State Maternal and Child Health Policy Innovation Program (MCH PIP)

AGENCY: Health Resources and Services Administration (HRSA), Department of Health and Human Services.

ACTION: Notice of a MCHB Initiated Supplemental award to the NASHP for the Supporting State MCH PIP—Grant Number U1XMC31658.

SUMMARY: HRSA announces the award of a supplement of $74,841 for the Supporting State MCH PIP for the period of May 1, 2019-April 30, 2020. The supplement will allow the current recipient to investigate and evaluate opportunities for strengthening collaboration and coordination among federal, state, community, and other stakeholders to effectively leverage Medicaid for evidence-based home visiting and related maternal and child health services.

FOR FURTHER INFORMATION CONTACT: Kelsi Feltz, Office of Policy and Planning, MCHB, HRSA, 5600 Fishers Lane, Room 18W10C, Rockville, MD 20852, Phone: (301) 945-3088, Email: kfeltz@hrsa.gov.

SUPPLEMENTARY INFORMATION:

Intended Recipient of Award: National Academy for State Health Policy, Washington, DC.

Amount of Non-Competitive Award: $74,841.

Period of Supplemental Funding: 05/01/2019-04/30/2020.

CFDA Number: 93.110.

Authority: Social Security Act, Title V, § 501(a)(2) (42 U.S.C. 701(a)(2)).

Justification: Many Maternal, Infant, and Early Childhood Home Visiting (MIECHV) Program state recipients seek to effectively leverage Medicaid for evidence-based home visiting and related maternal and child health services but face significant administrative and policy challenges. MCHB seeks to provide supplemental funding to the MCH PIP to investigate and evaluate opportunities for strengthening collaboration and coordination among federal, state, community, and other stakeholders to address these challenges. The current MCH PIP recipient, NASHP, is best situated to support this function. Through its work over the past 30 years, NASHP has developed strong long-term relationships with Medicaid Directors and other key Medicaid officials and staff (Deputy Directors, Managed Care Bureau Chiefs, Medical Directors, and child health staff), who represent the key target populations necessary for successful execution of this work. NASHP works with state health officials, including Medicaid agency leaders and staff (e.g., Early and Periodic Screening, Diagnostic, and Treatment coordinators), to support policy strategies that improve access to care for the MCH population, which represents the goal of these supplemental funds. Additionally, through the development of technical assistance resources, NASHP has demonstrated significant subject matter expertise on public insurance financing mechanisms to support maternal and child health services, including home visiting.

Consistent with HRSA-18-086, this funding will benefit the state MCH policymakers, MIECHV Program and Title V Maternal and Child Health Block Grant recipients, MCH populations, and the general public, and include funding for the recipient to:

• Engage multiple states and their key health policymakers to implement policy initiatives that will improve access to home visiting services for their MCH populations;

• Develop, implement, and evaluate Medicaid financing policy initiatives in collaboration with participating states;

• Convene key state-level and federal health policymakers to support the effective implementation of policy initiatives; and

• Develop a plan to disseminate reports, products, and/or project outputs so project information is provided to state-level policymakers and made available to other stakeholders, as appropriate.

Dated: October 11, 2019.
Thomas J. Engels,
Acting Administrator.

[FR Doc. 2019-22993 Filed 10-21-19; 8:45 am]

BILLING CODE 4165-15-P